CONSUMER PRODUCT SAFETY COMMISSION

[CPSC Docket No. 05-C0005]

Polaris Industries Inc.; Final Acceptance of a Settlement Agreement and Order

AGENCY: Consumer Product Safety Commission.

ACTION: Notice.

SUMMARY: The Commission has finally accepted a Settlement Agreement with Polaris Industries Inc. containing a civil penalty of $950,000.

DATES: The Settlement Agreement was finally accepted and the Order issued on March 9, 2005.

FOR FURTHER INFORMATION CONTACT: Seth B. Popkin, Trial Attorney, Office of Compliance, Consumer Product Safety Commission, Washington, DC 20207.

SUPPLEMENTARY INFORMATION: On January 13, 2005, the Commission provisionally accepted a Settlement Agreement and Order in the matter of Polaris Industries Inc. and published it for comment in the Federal Register of January 21, 2005 (70 FR 3188). The Commission received two comments on the Provisional Settlement Agreement and Order. After considering those comments, the Commission voted on March 9, 2005, to finally accept the Settlement Agreement.

Dated: March 9, 2005.
Todd A. Stevenson,
Secretary, Consumer Product Safety Commission.

Order

Upon consideration of the Settlement Agreement entered into between Polaris Industries Inc. (“Polaris”) and the U.S. Consumer Product Safety Commission (“Commission”) staff, and the Commission having jurisdiction over the subject matter and over Polaris, and it appearing that the Settlement Agreement and Order is in the public interest, it is

Ordered, that the Settlement Agreement be, and hereby is, accepted; and it is

Further ordered, that Polaris shall pay a civil penalty in the amount of nine hundred and fifty thousand dollars ($950,000.00) within twenty (20) calendar days of service of the final Order upon Polaris. The payment shall be made by check payable to the order of the United States Treasury. Upon the failure of Polaris to make the foregoing payment when due, interest on the unpaid amount shall accrue and be paid by Polaris at the federal legal rate of interest set forth in the provisions of 28 U.S.C. 1961(a) and (b).

Provisionally accepted and Provisional Order issued on the 13th day of January 2005.

By order of the Commission:

Todd A. Stevenson,

Secretary, Consumer Product Safety Commission.

Upon consideration of the Settlement Agreement between Polaris Industries Inc. and the staff and the comments received on the provisional Settlement Agreement and Order, the Consumer Product Safety Commission finally accepts the Settlement Agreement.

Final Order issued on the 9th day of March, 2005.

By order of the Commission:

Todd A. Stevenson,

Secretary, Consumer Product Safety Commission.

[FR Doc. 05-5354 Filed 3-17-05; 8:45 am]

BILLING CODE 6355-01-P